DEPARTMENT OF EDUCATION

[Docket No.: ED-2013-ICCD-0076]

Agency Information Collection Activities; Submission to the Office of Management and Budget for Review and Approval; Comment Request; Targeted Teacher Shortage Areas Nationwide Listing

Correction

In notice document 2013-24594 appearing on pages 62602-62603 in the issue of Tuesday, October 22, 2013, make the following correction:

On page 62603, in the first column, beginning on the second line, “[insert the 30th day after publication of this notice]” should read “November 21, 2013”.

[FR Doc. C1-2013-25939 Filed 10-29-13; 8:45 am]

BILLING CODE 1505-01-D